DEPARTMENT OF THE INTERIOR

Bureau of Land Management

43 CFR Part 8360

[17X LLAKF0000 L12200000.AL0000 LXSS002L0000]

Proposed Supplementary Rules for Public Lands Managed by the Eastern Interior Field Office at the Fairbanks District Office Administrative Site, Fairbanks, Alaska

AGENCY: Bureau of Land Management, Interior.

ACTION: Proposed supplementary rules.

SUMMARY: The Bureau of Land Management (BLM) is proposing supplementary rules for all BLM-administered lands within the Fairbanks District Office administrative site. These proposed supplementary rules are necessary to enhance the safety of visitors, protect natural resources, improve recreation experiences and opportunities, and protect public health.

DATES: Interested parties may submit written comments regarding the proposed supplementary rules until January 22, 2018.

ADDRESSES: You may submit comments by mail, electronic mail, or hand-delivery.

Mail or Hand Delivery: Jeanie Cole, Fairbanks District Office, 222 University Avenue, Fairbanks, AK 99709.

Electronic mail: EasternInterior@blm.gov (include “proposed supplementary rules” in the subject line).

FOR FURTHER INFORMATION CONTACT: Jeanie Cole, Planning and Environmental Coordinator, Fairbanks District Office, 222 University Avenue, Fairbanks AK 99709, 907-474-2200, j05cole@blm.gov. People who use a telecommunications device for the deaf (TDD) may call the Federal Relay Service (FRS) at 1-800-877-8339 to contact the above individual.

SUPPLEMENTARY INFORMATION:

I. Public Comment Procedures

You may mail, email, or hand-deliver comments to Jeanie Cole at the addresses listed above (See ADDRESSES). Written comments on the proposed supplementary rules should be specific and confined to issues pertinent to the proposed rules, and should explain the reason for any recommended change. Where possible, comments should reference the specific section or paragraph of the proposal that the commenter is addressing. The BLM is not obligated to consider or include in the Administrative Record for the final supplementary rules, comments delivered to an address other than those listed above (See ADDRESSES) or comments that the BLM receives after the close of the comment period (See DATES), unless they are postmarked or electronically dated before the deadline.

Comments, including names, street addresses, and other contact information for respondents, will be available for public review at the Fairbanks District Office listed in ADDRESSES during regular business hours (7:45 a.m. to 4:30 p.m., Monday through Friday, except Federal holidays). Before including your address, phone number, email address, or other personal identifying information in your comment, you should be aware that your comment—including your personal identifying information—may be made publicly available at any time. While you can ask the BLM in your comment to withhold your personal identifying information from public review, we cannot guarantee that we will be able to do so.

II. Background

The Fairbanks District Office is located in a densely-developed, mixed residential/commercial area of Fairbanks, Alaska, on BLM-managed public lands within the Eastern Interior Field Office on the south bank of the Chena River. In addition to visiting the office, the public often uses the open space adjacent to the office building to picnic, walk dogs, or access the Chena River. Visitors encounter inconsistent rules regarding appropriate conduct at the Fairbanks District Office administrative site. This inconsistency hampers the BLM's ability to provide a safe visitor experience and minimize conflicts among users. The BLM is proposing these supplementary rules to establish a consistent set of rules for the Fairbanks District Office administrative site. Lack of BLM rules for the management of this administrative site prevents BLM Law Enforcement Rangers from enforcing prohibited acts that compromise public health and safety, such as open fires in proximity to office buildings, overnight/long-term occupancy, unattended domestic animals, and unattended vehicles and skateboarding. The highly urbanized nature of the Fairbanks District Office and its location in Class C-E airspace on final approach to Fairbanks International Airport, as well as the adjacent State Division of Forestry-Interagency Fire helipad, make some uses of public lands inappropriate, for example, operating aerial drones which currently prohibits drone operation over or immediately adjacent to neighboring Forestry helipads (14 CFR 107.43). In addition, enforcing State laws and/or Borough ordinances is administratively more difficult for BLM Law Enforcement Rangers than enforcing established BLM rules. The BLM is proposing to establish these supplementary rules under the authority of 43 CFR 8365.1-6, which authorizes BLM State Directors to establish supplementary rules for the protection of persons, property, and public lands and resources. There are currently no existing supplementary rules for the Fairbanks District Office administrative site. The administrative site is all property and lands encompassed within the land parcel owned/managed by the BLM at North Star Borough, legal address 222 University Avenue, Fairbanks, AK 99709, described as:

Fairbanks Meridian, Alaska

T. 1 S., R. 1 W.,

Sec. 7, lots 63 and 69.

The area described here aggregates 11.41 acres.

You may obtain a map of the Fairbanks District Office administrative site in Fairbanks, Alaska, by contacting the office (see ADDRESSES) or by accessing the following Web site: https://eplanning.blm.gov/epl-front-office/eplanning/projectSummary.do?methodName=renderDefaultProjectSummary&projectId=71962.

II. Discussion of Proposed Supplementary Rules

In general, the BLM uses supplementary rules for permanent, site-specific regulations where general BLM regulations do not meet the specific management needs of a site's unique characteristics. Most common, are rules for recreation areas or administrative sites, such as the Fairbanks District Office administrative site. Field Office or statewide rules are also occasionally established. These proposed supplementary rules would apply to 11.41 acres of public lands comprising the BLM Fairbanks District Office administrative site. These proposed rules address general public conduct and public safety concerns at the BLM facility. It is important to note that the rules addressing fishing, boating, and operation of aerial drones will be enforced only in relation to BLM-managed lands above the mean high water line of the Chena River. Nothing in these proposed rules would impart any new or special authority or jurisdiction to BLM Law Enforcement Rangers on or within the navigable waters of the State of Alaska or airspace managed by the Federal Aviation Administration. The proposed rule pertaining to hunting seeks to minimize conflicts with the Fairbanks District Office administrative site's year-round heavy use by employees, volunteers, school groups, contractors, and the general public (see map associated with this proposal at https://eplanning.blm.gov/epl-front-office/eplanning/projectSummary.do?methodName=renderDefaultProjectSummary&projectId=71962). The proposed rule pertaining to trapping seeks to minimize conflict with the proposed dog off-leash area identified in proposed rule number 12. During the drafting of these hunting and trapping rules, the BLM consulted with the Alaska Department of Fish and Game, which did not object. The Alaska Department of Fish and Game has closed the Chena River to beaver trapping downstream from its confluence with the Little Chena River by State trapping regulations, and the closure area encompasses the segment of the River's riparian corridor adjoining the BLM Fairbanks District Office administrative site.

These proposed rules are broken down into three categories. Proposed supplementary rules 1, 3-7, 9-10, 12-13, and 15 parallel existing state laws or regulations and municipal ordinances that the BLM proposes to adopt in order to facilitate cooperation between BLM Law Enforcement Rangers and local or state authorities. Proposed supplementary rules 8, 14, 17-20, 22-23, and 26-27 are new. Proposed supplementary rules 2, 11, 16, 21, and 24-25 are not new, but would implement minor modifications or revisions to existing BLM regulations in order to be more enforceable and better applicable to the Fairbanks administrative site's particular urban environment.

IV. Procedural Matters

Executive Orders 12866 and 13563, Regulatory Planning and Review

Executive Order 12866 provides that the Office of Information and Regulatory Affairs in the Office of Management and Budget will review all significant rules. These proposed supplementary rules are not a significant regulatory action and are not subject to review by the Office of Information and Regulatory Affairs under Executive Order 12866.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Clarity of the Supplementary Rules

We are required by Executive Orders 12866 (section 1 (b)(12)), 12988 (section 3(b)(1)(B)), and 13563 (section 1(a)), and by the Presidential Memorandum of June 1, 1998, to write all rules in plain language. This means that each rule we publish must:

(a) Be logically organized;

(b) Use the active voice to address readers directly;

(c) Use common, everyday words, and clear language rather than jargon;

(d) Be divided into short sections and sentences; and

(e) Use lists and tables wherever possible.

If you feel that we have not met these requirements, send us comments by one of the methods listed in the ADDRESSES section. To better help the BLM revise the rule, your comments should be as specific as possible. For example, you should tell us the numbers of the sections or paragraphs that you find unclear, which sections or sentences are too long, the sections where you feel lists or tables would be useful, etc.

National Environmental Policy Act (NEPA)

This rule does not constitute a major Federal action significantly affecting the quality of the human environment. A detailed statement under the National Environmental Policy Act of 1969 is not required because we reached a Finding of No Significant Impact (FONSI).

Through an interdisciplinary review, the BLM Eastern Interior Field Office prepared an Environmental Assessment (DOI-BLM-AK-F020-2017-0006-EA) and made it available on the BLM Eastern Interior Field Office ePlanning NEPA register for public inspection on February 14, 2017, along with a draft FONSI The EAand draft FONSI were also available for public review on the public BLM Web site for 30 days. A Decision Record to move forward with the proposed supplementary rule was signed March 17, 2017. These documents are available online at https://eplanning.blm.gov/epl-front-office/eplanning/projectSummary.do?methodName=renderDefaultProjectSummary&projectId=71962.

Regulatory Flexibility Act

This rule will not have a significant economic effect on a substantial number of small entities under the Regulatory Flexibility Act (5 U.S.C. 601 et seq.). These proposed supplementary rules merely establish rules of conduct for public use of specific public lands. Therefore, the BLM has determined that these proposed supplementary rules would not have a significant economic impact on a substantial number of small entities.

Small Business Regulatory Enforcement Fairness Act

This rule is not a major rule under 5 U.S.C. 804(2), the Small Business Regulatory Enforcement Fairness Act. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

These rules merely establish rules of conduct for use of certain public lands and do not affect commercial or business activities of any kind.

Unfunded Mandates Reform Act

This rule does not impose an unfunded mandate on State, local, or tribal governments, or the private sector of more than $100 million per year. The rule does not have a significant or unique effect on State, local, or tribal governments or the private sector. A statement containing the information required by the Unfunded Mandates Reform Act (2 U.S.C. 1531 et seq.) is not required.

Takings (E.O. 12630)

This rule does not effect a taking of private property or otherwise have taking implications under Executive Order 12630. These rules do not address property rights in any form, and do not cause the impairment of one's property rights. A takings implication assessment is not required.

Federalism (E.O. 13132)

Under the criteria in section 1 of Executive Order13132, this rule does not have sufficient federalism implications to warrant the preparation of a federalism summary impact statement. These rules do not conflict with any Alaska State law or regulation. A federalism summary impact statement is not required.

Civil Justice Reform (E.O. 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (E.O. 13175 and Departmental Policy)

The Department of the Interior strives to strengthen its government-to-government relationship with Indian tribes through a commitment to consultation with Indian tribes and recognition of their right to self-governance and tribal sovereignty. We have evaluated this rule under the Department's consultation policy and under the criteria in Executive Order 13175 and have determined that it has no substantial direct effects on federally-recognized Indian tribes and that consultation under the Department's tribal consultation policy is not required. The rules do not affect Indian resource, religious, or property rights.

Effects on the Energy Supply (E.O. 13211)

This rule is not a significant energy action under the definition in Executive Order 13211. A Statement of Energy Effects is not required.

Paperwork Reduction Act (44 U.S.C. 3501 et seq.)

This rule does not contain information collection requirements, and a submission to the Office of Management and Budget under the Paperwork Reduction Act is not required.

Proposed Supplementary Rules

Author

The principal author of these supplementary rules is Jonathan Priday, Bureau of Land Management Law Enforcement Ranger for the Eastern Interior Field Office.

For the reasons stated in the preamble, and under the authority of 43 CFR 8365.1-6, the BLM State Director proposes to establish supplementary rules for public lands managed by the BLM in Fairbanks, Alaska, to read as follows:

Definitions

1. Brandish means to point, shake, or wave menacingly or to exhibit in an ostentatious manner.

2. Camping means erecting a tent or shelter of natural or synthetic material, preparing a sleeping bag or other bedding material, parking a motor vehicle, motor home, or trailer, or mooring a vessel for the apparent purpose of overnight occupancy.

3. Command and control of an animal means that the animal returns immediately to and remains by the side of the handler in response to a verbal command. An animal is not under command and control if the animal approaches or remains within 10 feet of any person other than the handler, unless that person has communicated to the handler by spoken word or gesture that he or she consents to the presence of the animal.

4. Explosives means any chemical compound, mixture, or device, the primary or common purpose of which is to function by explosion; the term includes, but is not limited to, dynamite and other high explosives, black powder, blasting caps, pellet powder, initiating explosives, detonators, safety fuses, squibs, detonating cord, igniter cord, and igniters. This includes, but is not limited to, all materials listed in the Attorney General of the United States' 2016 list of explosive materials published in the Federal Register (81 FR 80684).

5. Firearm or other projectile shooting device means all firearms, air rifles, pellet and BB guns, spring guns, bows or crossbows and arrows, slings, paint ball markers, other instruments that can propel a projectile (such as a bullet, dart, or pellet) by combustion, air pressure, gas pressure, or other means, or any instrument that can be loaded with and fire blank cartridges.

6. Motorized vehicle means a vehicle that is propelled by a motor or engine, such as a car, truck, off-highway vehicle, motorcycle, or snowmobile.

7. Street legal vehicle means a motorized vehicle that meets standards and requirements identified in Alaska Administrative Code Title 13 and Alaska Statue 28—Motor Vehicles.

8. Tether means to restrain an animal by tying to any object or structure by any means, including without limitation a chain, rope, cord, leash, or running line. Tethering does not include using a leash to walk an animal.

9. Fairbanks District Office administrative site means the parcels located at Fairbanks Meridian, Alaska, T. 1 S., R. 1 W., sec. 7, lots 63 and 69. The area described aggregates 11.41 acres.

Prohibited Acts

Unless otherwise authorized by the BLM, the following actions are prohibited on lands included within the Fairbanks District Office administrative site:

1. Operating, parking, or leaving unattended a motorized vehicle in violation of posted restrictions or limits or in such a manner or location to:

a. Create a safety hazard;

b. Interfere with other authorized users or uses;

c. Obstruct or impede normal or emergency traffic movement;

d. Interfere with or impede administrative activities;

e. Interfere with the parking of other vehicles;

f. Be in violation of Alaska State law or regulation;

g. Park or occupy a parking space posted or marked for handicapped use or BLM employees without displaying official identification tag, plate, or permit;

h. Operate, occupy, or park a vehicle other than in or on paved areas established for such use; or

i. Operate, occupy, or park a non-street legal motorized vehicle;

2. Possessing or using fireworks, Tannerite, ammonium nitrate, ammonium perchlorate, and/or explosives;

3. Carrying concealed weapons in violation of Alaska State law;

4. Discharging or brandishing a firearm, projectile shooting device, or any implement capable of taking a human life, causing injury, or damaging property;

5. Using, carrying, or brandishing weapons in violation of Alaska State and/or Federal law;

6. Disorderly conduct as described in Alaska Statue 11.61.110;

7. Indecent exposure as described in Alaska Statue 11.41.458 and/or 11.41.460;

8. Hunting or trapping;

9. Fishing in violation of Alaska State law, rules, or regulations;

10. Boating in violation of Alaska State regulation or law or U.S. Coast Guard regulation;

11. Cutting or gathering green trees or parts or removing down or standing dead wood for any purpose;

12. Failing to physically restrain pets or domestic animals at all times, unless the pet or animal is under the command and control of the handler and is located on the designated grassy or wooded waterfront north of the Fairbanks District Office building. Leashes may not exceed six (6) feet in length;

13. Failing to prevent a pet from harassing, molesting, injuring, or killing humans, domesticated animals, wildlife, or livestock;

14. Leaving unattended and/or tethered domestic animals, except for animals that are inside passenger vehicles;

15. Failing to immediately remove or dispose of in a sanitary manner all pet, domestic animal, or human fecal matter or trash, garbage, or waste;

16. Disposing of any grey or waste water;

17. Starting or maintaining an open or camp fire;

18. Launching or operating drones or other unmanned aerial vehicles;

19. Unauthorized overnight occupancy, use, camping, or parking. Overnight is defined as anytime between the hours of 10 p.m. and 6 a.m.;

20. Accessing, using, or climbing any BLM buildings, infrastructure, or fenced areas. Except that the Fairbanks District Office Public Room is open and accessible to the public between the hours of 7:45 a.m. and 4:30 p.m. Monday through Friday, excluding Federal holidays and other days as directed by the BLM Alaska State Director;

21. Unauthorized access or use of government-owned and BLM employee-owned vehicles;

22. Using a skateboard, rollerblades, or hoverboard, in the building or use temporary ramps for these purposes;

23. Requesting, encouraging, or demanding someone engage in criminal conduct, with the intent to facilitate or contribute to the commission of that crime;

24. Use of a garbage dumpster without prior authorization from the BLM Authorized Officer;

25. Placement of household or commercial waste in or adjacent to provided garbage cans;

26. Leaving property unattended; or

27. Generating noise exceeding 88 decibels at 88 feet distance.

Exemptions

The following persons are exempt from these supplementary rules: Any Federal, State, local, and/or military employee acting within the scope of their duties; members of any organized rescue or fire-fighting force performing an official duty; and persons, agencies, municipalities, or companies holding an existing special-use permit and operating within the scope of their permit.

Enforcement

Any person who violates any of these supplementary rules may be tried before a United States Magistrate and fined in accordance with 18 U.S.C. 3571, imprisoned no more than 12 months under 43 U.S.C. 1733(a) and 43 CFR 8560.0-7, or both. In accordance with 43 CFR 8365.1-7, State or local officials may also impose penalties for violations of Alaska law.

Karen E. Mouritsen,
Acting State Director, Alaska.

[FR Doc. 2017-25100 Filed 11-20-17; 8:45 am]

BILLING CODE 4310-JA-P